INTERNATIONAL TRADE COMMISSION

[Investigations Nos. 701-TA-403 and 731-TA-895-896 (Final)]

Pure Magnesium From China and Israel

Determinations

On the basis of the record ¹ developed in the subject investigations, the United States International Trade Commission determines, pursuant to section 735(b) of the Tariff Act of 1930 (19 U.S.C. § 1673d(b)) (the Act), that an industry in the United States is materially injured by reason of imports from China of pure magnesium, provided for in subheading 8104.30.00 of the Harmonized Tariff Schedule of the United States (HTSUS), that have been found by the Department of Commerce to be sold in the United States at less than fair value (LTFV).² The Commission also determines, pursuant to sections 705(b) and 735(b) of the Tariff Act of 1930 (19 U.S.C. § 1671d(b) and §1673d(b)) that an industry in the United States is not materially injured or threatened with material injury, and the establishment of an industry in the United States is not materially retarded by reason of imports from Israel of pure magnesium provided for in subheadings 8104.11.00 and 8104.19.00, and 8104.30.00 of the HTSUS, that have been found by the Department of Commerce to be sold in the United States at LTFV and to be subsidized by the Government of Israel.

¹ The record is defined in sec. 207.2(f) of the Commission's Rules of Practice and Procedure (19 CFR § 207.2(f)).

² Commissioners Hillman and Miller dissenting. They defined two domestic like products, pure granular magnesium and pure magnesium ingot. With respect to pure granular magnesium, they found subject imports from Israel to be negligible and they found that the domestic pure granular magnesium industry is not materially injured or threatened with material injury, and the establishment of an industry in the United States is not materially retarded by reason of subject imports from China. They also found that the domestic pure magnesium ingot industry is not materially injured or threatened with material injury and the establishment of an industry in the United States is not materially retarded by reason of subject imports from Israel.

Background

The Commission instituted these investigations effective October 17, 2000, following receipt of a petition filed with the Commission and Commerce by Magcorp, Salt Lake City, UT, the United Steel Workers of America, Local 8319, Salt Lake City, UT, and the USWA International.³ The final phase of the investigations was scheduled by the Commission following notification of preliminary determinations by Commerce that imports of pure magnesium from Israel were being subsidized within the meaning of section 703(b) of the Act (19 U.S.C. § 1671b(b) and imports of pure magnesium from China and Israel were being sold at LTFV within the meaning of section 733(b) of the Act (19 U.S.C. § 1673b(b)). Notice of the scheduling of the Commission's investigation and of a public hearing to be held in connection therewith was given by posting copies of the notice in the Office of the Secretary, U.S. International Trade Commission, Washington, DC, and by publishing the notice in the Federal Register of June 4, 2001 (66 FR 29987) and September 20, 2001 (66 FR 48478). The hearing was held in Washington, DC, on October 11, 2001, and all persons who requested the opportunity were permitted to appear in person or by counsel.

³ See letter from petitioners dated October 26, 2000, amending the petitions to include the USWA International as co-petitioners and April 20, 2001 amendment to petitions adding “concerned employees of Northwest Alloys, Inc.” as co-petitioners.

The Commission transmitted its determinations in these investigations to the Secretary of Commerce on November 13, 2001. The views of the Commission are contained in USITC Publication 3467 (November 2001), entitled Pure Magnesium from China and Israel: Investigations Nos. 701-TA-403 and 731-TA-895-896 (Final).

By order of the Commission.
Issued: November 14, 2001.
Donna R. Koehnke,
Secretary.

[FR Doc. 01-28900 Filed 11-19-01; 8:45 am]

BILLING CODE 7020-02-P